DEPARTMENT OF DEFENSE

Office of the Secretary

32 CFR Part 71

[Docket ID: DOD-2013-OS-0181]

RIN 0790-AJ13

Eligibility Requirements for Minor Dependents To Attend DoD Domestic Dependent Elementary and Secondary Schools (DDESS)

AGENCY: Under Secretary of Defense for Personnel and Management, DoD.

ACTION: Proposed rule.

SUMMARY: This proposed rule updates policy and procedures for minor dependents attending schools operated by DOD pursuant to 10 U.S.C. 2164. The proposed rule outlines procedures for eligibility, application and enrollment in DOD schools and describes procedures for reimbursement of educational services. This proposed rule discusses provision for the elementary and secondary education to minor dependents of members of the armed forces and civilian employees of the Federal Government residing within the United States (including the territories, commonwealths, and possessions of the United States).

DATES: Comments must be received by July 8, 2016.

ADDRESSES: You may submit comments, identified by docket number and/or RIN number and title, by any of the following methods:

• Federal Rulemaking Portal: http://www.regulations.gov. Follow the instructions for submitting comments.

Mail: Department of Defense, Office of the Deputy Chief Management Officer, Directorate of Oversight and Compliance, 4800 Mark Center Drive, Mailbox #24, Alexandria, VA 22350-1700.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Marsha Jacobson, 571-372-1900.

SUPPLEMENTARY INFORMATION: The Federal government has provided educational services to the dependent children of Federal employees residing on Federal military installations under various legal authorities and Federal statutes since 1820. In 1950, schools were established on military installations under section 6 of Public Law 81-874, Impact Aid Act (codified at 20 U.S.C. 241). In 1994, Congress repealed Public Law 81-874 and passed Public Law 103-337, the FY1995 National Defense Authorization Act (codified at 10 U.S.C. 2164), creating the Domestic Dependent and Elementary and Secondary Schools (DDESS). Under 10 U.S.C. 2164, the Department of Defense operates approximately 65 elementary and secondary schools on federal installations in the United States and its territories, possessions, and commonwealths.

Since the passage of 10 U.S.C. 2164 in 1994, Congress has passed a number of minor changes to the statute's eligibility provisions in order to provide DDESS with the flexibility to meet developing real-world contingencies. While the overall student enrollment in DDESS schools has declined in recent years as a result of the reductions in the military force, the statutory changes have minimally expanded eligibility to certain categories of personnel.

These categories of personnel include the dependents of military personnel killed in combat-related operations (i.e., fallen soldiers); the dependents of wounded and injured military personnel receiving medical care at military hospitals on installations with DDESS schools (i.e. wounded warriors); and to students enrolled in an overseas DoD school who have been required to depart the overseas location as a result of an evacuation order. Given the overall decline in student enrollment associated with the reduction of the military force, there are no additional costs associated with this rulemaking which only reflects the statutory changes to student eligibility.

Childhood education is essential, and DoD is determined to provide primary and secondary education for dependent children of members of the armed forces and civilian employees of the Federal Government residing on military installations.

This proposed rule updates the eligibility requirements and the policy and procedures for minor dependents attending schools operated by DOD pursuant to 10 U.S.C. 2164. The proposed rule outlines procedures for eligibility, application, and enrollment in DOD schools and describes procedures for reimbursement of educational services. The proposed rule applies to schools (prekindergarten through grade 12) operated by the Department of Defense within the United States (including the territories, commonwealths, and possessions of the United States).

This proposed rule also describes procedures for participation of eligible dependents in the DoDEA Virtual School (i.e., DoDEA's on-line school).

Costs and Benefits:

The total operating costs for the DDESS schools for FY15 is $383.1M. Relative to the baseline of the Department of Defense Instruction 1342.26 where policies and responsibilities for enrollment of certain dependents in arrangements operated by or entered into by the Department of Defense pursuant to 10.U.S.C. 2164 are specified, the incremental costs associated with increasing the eligibility criteria is expected to be zero. This program is not a transfer program since the education of these dependents would not be assumed by the state governments where these military installations are located. The benefits of providing a tuition free education to certain dependents of members of the armed forces and civilian employees on military installations in the United States (including the territories, commonwealths, and possessions of the United States) remain the same.

Regulatory Procedures

Executive Order 12866, “Regulatory Planning and Review” and Executive Order 13563, “Improving Regulation and Regulatory Review”

Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This proposed rule has been designated a “significant regulatory action,” although not economically significant, under section 3(f) of Executive Order 12866. Accordingly, the proposed rule has been reviewed by the Office of Management and Budget (OMB) under the requirements of these Executive orders.

Section 202, Public Law 104-4, “Unfunded Mandates Reform Act”

Section 202 of the Unfunded Mandates Reform Act of 1995 (UMRA) (Pub. L. 104-4) requires agencies assess anticipated costs and benefits before issuing any rule whose mandates require spending in any 1 year of $100 million in 1995 dollars, updated annually for inflation. In 2014, that threshold is approximately $141 million. This proposed rule will not mandate any requirements for State, local, or tribal governments, nor will it affect private sector costs.

Public Law 96-354, “Regulatory Flexibility Act” (5 U.S.C. 601)

The Department of Defense certifies that this proposed rule is not subject to the Regulatory Flexibility Act (5 U.S.C. 601) because it would not, if promulgated, have a significant economic impact on a substantial number of small entities. Therefore, the Regulatory Flexibility Act, as amended, does not require us to prepare a regulatory flexibility analysis.

Public Law 96-511, “Paperwork Reduction Act” (44 U.S.C. Chapter 35)

Section 71.6(f) of this proposed rule contains information collection requirements. DoD has submitted the following proposal to OMB under the provisions of the Paperwork Reduction Act (44 U.S.C. Chapter 35). Comments are invited on: (1) Whether the proposed collection of information is necessary for the proper performance of the functions of DoD, including whether the information will have practical utility; (2) the accuracy of the estimate of the burden of the proposed information collection; (3) ways to enhance the quality, utility, and clarity of the information to be collected; and (4) ways to minimize the burden of the information collection on respondents, including the use of automated collection techniques or other forms of information technology.

Title: Eligibility Requirements for Minor Dependents to Attend DoD Domestic Dependent Elementary and Secondary Schools (DDESS).

Type of Request: New.

Number of Respondents: 23,000.

Responses per Respondent: 1.

Annual Responses: 23,000.

Average Burden per Response: 15 minutes.

Annual Burden Hours: 5.750.

Needs and Uses: Department of Defense Instruction 1342.26 establishes policy and assigns responsibilities for enrollment of certain dependents in arrangements operated by or entered into by the Department of Defense pursuant to 10 U.S.C. 2164. Pursuant to this legislation, the Secretary of Defense is authorized to enter into arrangements to provide for the elementary and secondary education of certain members of the armed forces and civilian employees of the Federal Government residing within the United States (including the territories, commonwealths, and possessions of the United States). Authority to operate these schools or arrangements has been delegated by the Secretary of Defense to the Department of Defense Education Activity (DoDEA) Domestic Dependent Elementary and Secondary Schools (DDESS). The operating statute, 10 U.S.C. 2164, requires (1) students to be dependents of members of the armed forces or dependents of civilian employees of the Federal government residing on a military installation in the United States (including territories, commonwealths, and possessions of the United States or (2) students to be dependents of members of the armed forces or dependents of civilian employees of the Federal government residing in a territory, commonwealth, or possession of the United States but not on a military installation. In order to determine eligibility for enrollment it is necessary for the agency collect information from each sponsor to prove dependency, employment and residential status on a school year basis.

Affected Public: Individuals or Households.

Frequency: On Occasion.

Respondent's Obligation: Required to Obtain or Retain Benefits.

OMB Desk Officer: Jasmeet Seehra.

Written comments and recommendations on the proposed information collection should be sent to Jasmeet Seehra, DoD Desk Officer, at Oira_submission@omb.eop.gov, with a copy to the Department of Defense Education Activity, 4800 Mark Center Drive, Alexandria, VA 22350. Comments can be received from 30 to 60 days after the date of this notice, but comments to OMB will be most useful if received by OMB within 30 days after the date of this notice.

You may also submit comments, identified by docket number and title, by the following method:

* Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

To request more information on this proposed information collection or to obtain a copy of the proposal and associated collection instruments, please write to Marsha Jacobson, Department of Defense Education Activity, 4800 Mark Center Drive, Alexandria, VA 22350.

Executive Order 13132, “Federalism”

Executive Order 13132 establishes certain requirements that an agency must meet when it promulgates a proposed rule (and subsequent final rule) that imposes substantial direct requirement costs on State and local governments, preempts State law, or otherwise has federalism implications. This proposed rule will not have a substantial effect on State and local governments.

List of Subjects in 32 CFR Part 71

Aid to families with dependent children, Elementary and secondary education, Minors.

Accordingly, 32 CFR part 71 is proposed to be added to read as follows:

PART 71—ELIGIBILITY REQUIREMENTS FOR MINOR DEPENDENTS TO ATTEND DOD DOMESTIC DEPENDENT ELEMENTARY AND SECONDARY SCHOOLS (DDESS)

Sec.
71.1 Purpose.
71.2 Applicability.
71.3 Definitions.
71.4 Policy.
71.5 Responsibilities.
71.6 Procedures.

Authority: 5 U.S.C. 2103, 10 U.S.C. 2164, 31 U.S.C. 1535.

§ 71.1 Purpose.

This part establishes policy assigns responsibilities for enrollment in arrangements (as defined in § 71.3) operated by or entered into by the DoD in accordance with DoD Directive 1342.20 and 10 U.S.C. 2164.

§ 71.2 Applicability.

This part applies to:

(a) The Office of the Secretary of Defense, the Military Departments (including the Coast Guard at all times, including when it is a Service in the Department of Homeland Security by agreement with that Department), the Office of the Chairman of the Joint Chiefs of Staff and the Joint Staff, the Combatant Commands, the Office of the Inspector General of the Department of Defense, the Defense Agencies, the DoD Field Activities, and all other organizational entities within the DoD (referred to collectively in this part as the “DoD Components”).

(b) Arrangements operated by or entered into by the DoD within the United States (including the territories, commonwealths, and possessions of the United States).

(c) Dependent children of active duty military members (as defined in § 71.3) and civilian employees of the Federal Government enrolled or seeking enrollment in arrangements.

(d) Dependent children of members of a foreign armed force assigned to and residing on a U.S. military installation enrolled or seeking enrollment in arrangements.

(e) Dependent children of employees of the American Red Cross residing in Puerto Rico enrolled or seeking enrollment in DDESS arrangements in Puerto Rico.

(f) Non-DoD federal agencies seeking enrollment of dependent children of full-time employees in arrangements on an agency reimbursable basis as determined by the Secretary of Defense.

§ 71.3 Definitions.

These terms and their definitions are for the purposes of this part.

Active duty military member. A member of the Military Services who has been ordered to:

(1) Active duty for at least 365 consecutive days in accordance with 10 U.S.C. 2164 or title 14, U.S.C.; or

(2) Full-time National Guard duty for at least 365 consecutive days in accordance with title 32, U.S.C.

Arrangement. Actions taken by the Secretary of Defense to provide education to dependent children of active duty military members and civilian employees of the Federal Government pursuant to DoD Directive 1342.20 and 10 U.S.C. 2164, through either DDESS arrangements or DDESS special arrangements.

Combat-related operation. An operation in which members of the Military Services are or may become involved in military actions, operations, or hostilities against an enemy of the United States or against an opposing military force.

DDESS arrangement. A school operated by the DoD pursuant to DoD Directive 1342.20 and 10 U.S.C. 2164 and provides a free public education for eligible children. This does not include the DoDEA Virtual School.

DDESS special arrangement. An agreement made pursuant to 10 U.S.C. 2164 and DoD Directive 1342.20 between the DoD and a local educational agency where a school or a school system operated by the local educational agency provides educational services to eligible dependent children of active duty military members and full time DoD civilian employees. Arrangements result in partial or total federal funding to the education agency for the educational services provided.

Dependent child. An unmarried child under the age of 21, who resides with the sponsor and:

(1) Is the child of the sponsor, including an adopted child or step-child (but not after the divorce of the member from the stepchild's natural parent);

(2) Has been placed in the sponsor's home by a local, State, or foreign government placement agency or a government-approved process, provided the sponsor produces a document from such an agency establishing the fact of relationship and the effective date of the relationship;

(3) The sponsor has acknowledged, in writing, that the child is a full-time resident in the sponsor's household, the sponsor is providing more than one-half of the child's support, and the sponsor accepts financial and educational responsibility for the child as if the child were the sponsor's natural or legally adopted child; or

(4) Has been placed in the custody of the sponsor by a court of competent jurisdiction in the United States and:

(i) Is dependent on the sponsor for more than one-half of the person's support.

(ii) Is not a dependent of any sponsor in accordance with any other part of this definition.

DoDEA Virtual School: A virtual school operated by the Department of Defense in accordance with DoD Directive 1342.20 and 10 U.S.C. 2164 to provide a free public education for eligible dependent children using an online platform.

Good cause. Consistent with the national interest, as approved by the Secretary of Defense. Such cause would permit the continued enrollment of a dependent child in a DDESS arrangement in situations such as when the child has only 1 year of school remaining or other such meritorious situations.

Injured. To suffer physical harm or damage to a part of one's body. Any harm or damage that is done or sustained. A condition caused by trauma, such as fracture, wound, sprain, dislocation, concussion, or compression. Also, an injury includes conditions resulting from extremes of temperatures or prolonged exposure. Acute poisonings resulting from exposure to a toxic or poisonous substance are also classed as injuries.

Line of duty. A finding after all available information has been reviewed that determines an injury, illness, or disease was incurred or aggravated while in an authorized duty status and was not due to gross negligence or misconduct of the member.

Professional, excepted service employee. An excepted service employee, as defined in 5 U.S.C. 2103, who holds a valid license or certificate from governmental agency or professional body attesting to professional proficiency or knowledge (e.g., teacher, counselor, administrator, nurse, professional engineer, psychologist, media specialist, therapist) as certified by the agency.

Sponsor. An active duty military member or civilian employee of the Federal Government seeking to enroll a dependent child in an arrangement.

§ 71.4 Policy.

It is DoD policy that arrangements are operated or entered into in accordance with 10 U.S.C. 2164. Enrollment is limited to eligible dependent children of active duty military members, DoD civilian employees, members of a foreign armed force, and certain employees of the American Red Cross residing in Puerto Rico, or non-DoD federal agencies seeking enrollment of dependent children of full-time employees in arrangements on an agency reimbursable basis as determined by the Secretary of Defense.

§ 71.5 Responsibilities.

(a) The Under Secretary of Defense for Personnel and Readiness (USD(P&R)) ensures that the DDESS program fosters optimum communication on matters relating to DoDEA eligibility requirements for DDESS within DoDEA and the Military Departments.

(b) Under the authority, direction, and control of the USD(P&R), the Assistant Secretary of Defense for Readiness and Force Management (ASD(R&FM)) monitors compliance with this part.

(c) Under the authority, direction, and control of the ASD(R&FM), the Director, DoD Education Activity (DoDEA):

(1) Makes determinations of eligibility for enrollment in arrangements. Decisions by the Director, DoDEA, on requests to enroll dependents in arrangements in accordance with this part are final.

(2) Monitors implementation and compliance with this part.

(3) Ensures arrangements allow only those students authorized by this part to enroll in arrangements.

§ 71.6 Procedures.

(a) In compliance with paragraph (f) of this section, DDESS arrangements within the United States will:

(1) Provide a tuition-free education to the dependent children of:

(i) Active duty military members residing in permanent living quarters for any part of the school year on a military installation served by a DDESS arrangement.

(ii) Full-time civilian DoD employees residing in permanent living quarters for any part of the school year on a military installation served by a DDESS arrangement.

(iii) A deceased member of the Military Services who died in the line of duty in a combat-related operation. The operation must have been designated as combat-related by the Secretary of Defense and the dependent children must reside on or near a military installation served by a DDESS arrangement.

(iv) A member of a foreign armed force residing in permanent living quarters for any part of the school year on a military installation served by a DDESS arrangement.

(v) Active duty military members occupying temporary housing, regardless of whether the housing is on federal property, when the Secretary of Defense has determined that the circumstances justify extending the enrollment authority to include the dependents, including:

(A) When adequate living quarters are unavailable on the military installation to which the active duty military member is assigned. Eligibility in accordance with this provision extends only to dependent children of active duty military members assigned by official orders to a military installation served by a DDESS arrangement.

(B) While the active duty military member is wounded, ill or injured. Eligibility in accordance with this provision extends only to dependent children of active duty military members assigned by official orders to a military installation served by a DDESS arrangement.

(vi) Active duty military members and federal employees overseas whose enrolled dependents have been evacuated and relocated within a reasonable commuting distance of an arrangement in accordance with the criteria set forth in subsection (k) of 10 U.S.C. 2164.

(2) Provide education on an agency-reimbursable basis to dependent children of full-time civilian employees of non-DoD federal agencies residing in permanent living quarters for any part of the school year on a military installation served by a DDESS arrangement.

(b) In compliance with paragraph (f) of this section, DDESS special arrangements within the United States will:

(1) Provide a tuition-free education to the dependent children of:

(i) Active duty military members residing in permanent living quarters for any part of the school year on a military installation served by a DDESS special arrangement.

(ii) Full-time civilian DoD employees residing in permanent living quarters for any part of the school year on a military installation served by a DDESS special arrangement.

(iii) A deceased member of the Military Services who died in the line of duty in a combat-related operation. The operation must have been designated as combat-related by the Secretary of Defense and the dependent children must reside on a military installation served by a DDESS special arrangement.

(iv) A member of a foreign armed force residing in permanent living quarters for any part of the school year on a military installation served by a DDESS special arrangement.

(2) Provide education on an agency reimbursable basis to dependent children of full-time civilian employees of non-DoD federal agencies residing in permanent living quarters for any part of the school year on a military installation served by a DDESS special arrangement.

(c) In compliance with paragraph (f) of this section, DDESS arrangements within a territory, commonwealth, or possession of the United States will:

(1) Provide a tuition-free education to dependent children of:

(i) Active duty military members residing in permanent living quarters for any part of the school year on a military installation served by a DDESS arrangement.

(ii) Full-time civilian DoD employees residing in permanent living quarters for any part of the school year on a military installation served by a DDESS arrangement.

(iii) A deceased member of the Military Services who died in the line of duty in a combat-related operation. The operation must have been designed as combat-related by the Secretary of Defense and the dependent children must reside on or near a military installation served by a DDESS arrangement.

(iv) A member of a foreign armed force residing in permanent living quarters for any part of the school year on any military installation served by a DDESS arrangement.

(v) Active duty military members stationed or home-ported in a territory, commonwealth, or possession of the United States and not residing in permanent living quarters on a military installation. Eligibility in accordance with this provision extends only to dependent children of active duty military members assigned by official orders to a military installation served by a DDESS arrangement.

(vi) Full-time civilian DoD employees, not residing in permanent living quarters on a military installation, who are subject by policy and practice to transfer or reassignment to a location where English is the language of instruction in the schools normally attended by dependent children of federal personnel. Dependents in this category may not be enrolled in the DDESS arrangement for more than 5 consecutive school years, unless:

(A) The Secretary of Defense, for good cause (as defined in § 71.3), extends the period; or

(B) Admission is granted based on eligibility in accordance with paragraph (c)(1)(vii) of this section.

(vii) Full-time, professional, excepted service employees (as defined in § 71.3) of the DDESS arrangement not residing in permanent quarters on a military installation.

(viii) Active duty military members, whose dependents reside on or off any military installation served by a DDESS arrangement with the dependents' designated location being in a territory, commonwealth, or possession of the United States, and who are assigned to:

(A) A remote location;

(B) A dependents' restricted unaccompanied tour of duty; or

(C) Unusually arduous sea duty.

(2) Provide education on an agency reimbursable basis to dependent children of:

(i) Full-time civilian employees of the non-DoD federal agencies residing in permanent living quarters for any part of the school year on a military installation served by a DDESS arrangement.

(ii) Full-time civilian employees of the United States Immigration and Customs Enforcement and the United States Customs and Border Protection residing in Puerto Rico.

(iii) Full-time civilian employees of non-DoD federal agencies not residing in permanent living quarters on a military installation, who are subject by policy and practice to transfer or reassignment to a location where English is the language of instruction in the schools normally attended by dependent children of federal personnel, when the Secretary of Defense determines that the circumstances of such living arrangements justify extending the enrollment authority to include the dependents. Dependents in this category may not be enrolled in the DDESS arrangement for more than 5 consecutive school years, unless the Secretary of Defense extends the period for good cause.

(iv) Full-time employees of the American Red Cross residing in Puerto Rico and performing emergency services on behalf of active duty military members.

(d) In compliance with paragraph (f) of this section, DDESS special arrangements within a territory, commonwealth, or possession of the United States will:

(1) Provide a tuition-free education to dependent children of:

(i) Active duty military members residing in permanent living quarters for any part of the school year on a military installation served by a DDESS special arrangement.

(ii) Full-time civilian DoD employees residing in permanent living quarters for any part of the school year on a military installation served by a DDESS special arrangement.

(iii) A deceased member of the Military Services who died in the line of duty in a combat-related operation. The operation must have been designated as combat-related by the Secretary of Defense and the dependent children must live in an area served by a DDESS special arrangement.

(iv) A member of a foreign armed force residing in permanent living quarters for any part of the school year on any military installation served by a DDESS special arrangement.

(v) Active duty military members stationed or home-ported in a territory, commonwealth, or possession of the United States and not residing in permanent living quarters on a military installation. Eligibility in accordance with this provision extends only to dependent children of active duty military members assigned by official orders to an area served by a DDESS special arrangement.

(vi) Full-time civilian DoD employees, not residing in permanent living quarters on a military installation but residing in an area served by a DDESS special arrangement, who are subject by policy and practice to transfer or reassignment to a location where English is the language of instruction in the schools normally attended by dependent children of federal personnel. Dependents in this category may not be enrolled in the DDESS special arrangement for more than 5 consecutive school years, unless the Secretary of Defense, for good cause, extends the period.

(vii) Active duty military members, whose dependents' reside in the area served by a DDESS special arrangement, with the dependents' designated location being in a territory, commonwealth, or possession of the United States who are assigned to:

(A) A remote location,

(B) A dependents' restricted unaccompanied tour of duty, or

(C) Unusually arduous sea duty.

(2) Provide education on an agency-reimbursable basis to dependent children of:

(i) Full-time civilian employees of non-DoD federal agencies residing in permanent living quarters for any part of the school year on any military installation served by a DDESS special arrangement.

(ii) Full-time civilian employees of the United States Immigration and Customs Enforcement and the United States Customs and Border Protection residing in Puerto Rico.

(e) In compliance with paragraph (f) of this section, the DoDEA Virtual School shall:

(1) Provide a tuition-free education to eligible dependent children currently enrolled in DDESS arrangements in accordance with paragraphs (a) and (c) of this section.

(2) Provide coursework on a tuition paying basis to dependent children of members of the Military Services on active duty who:

(i) Are enrolled in an elementary or secondary school operated by a local education agency (LEA) or other accredited educational program in the United States, and

(ii) Who immediately prior to such enrollment, were enrolled in an elementary or secondary school operated by the Department of Defense Dependents School (DoDDS).

(f) Procedures for application and enrollment:

(1) Application for enrollment will be made to the arrangement to which admission is sought. The active duty military member or civilian employee sponsoring the dependent child(ren) must provide proof of status upon which the requested admission is based. DDESS reserves the right to request additional information, should it be deemed necessary to make a determination of eligibility.

(2) Eligibility based on residency on a military installation may be established by:

(i) Actual residence in permanent quarters on a military installation served by an arrangement; or

(ii) Written affirmation provided by the installation family housing manager that the sponsor has applied for and will be able to occupy permanent quarters on the military installation within 90 school days (or 180 school days if an exception for the installation has been approved by the Secretary of Defense) after the sponsor reports to the new duty station. Enrollment occurring pursuant to this paragraph obligates the sponsor to accept permanent quarters on the military installation when available and offered or the dependent child's eligibility to attend the arrangement terminates.

(3) Eligibility for dependent children of full-time employees of the Federal Government, will be established in accordance with these provisions:

(i) The sponsor seeking enrollment will provide proof of full-time employment with the Federal Government, or the agency employing the civilian sponsor will provide a written statement confirming the sponsor's position meets the eligibility requirements.

(ii) The written statement must be signed by the agency's Director of Personnel or principal administrative officer at its main headquarters.

(iii) Federal government employees residing in a territory, commonwealth, or possession of the United States seeking to continue the enrollment of their dependent(s) in a DDESS arrangement for more than 5 consecutive years pursuant to paragraph (a)(1)(v)(C), (c)(2)(iii), or (d)(1)(vi) of this section must submit a request for an exception to policy. The request must be made in writing and submitted through the employee's agency to the Director, DDESS, for consideration. The request must be received by the Director, DDESS before the start of the school year for which the exception is requested and must provide information showing that in the interest of the dependent's educational well-being, good cause exists for granting the exception. Reimbursement shall be obtained when required 10 U.S.C. 2164 (c)(2)(B).

(4) The sponsor seeking enrollment of a dependent child in the DoDEA Virtual School under paragraph (e)(2) of this section shall provide proof that:

(i) The dependent is currently enrolled in an elementary or secondary school operated by an LEA or other accredited educational program in the United States;

(ii) Immediately prior to enrollment in the LEA or other accredited educational program, the dependent was enrolled in an elementary or secondary school operated by DoDDS;

(iii) The LEA or other accredited educational program does not offer the requested coursework or extenuating circumstances exist to justify enrolling the dependent in the DoDEA Virtual School; and

(iv) The course(s) through the DoDEA Virtual School are taken for credit, or extenuating circumstances exist to justify enrolling the dependent in the DoDEA Virtual School.

(g) The Secretary of Defense may permit a currently enrolled student to continue:

(1) For the remainder of the year, if the status of the sponsor of a currently enrolled student changes so that the dependent child would no longer be eligible for enrollment in an arrangement.

(2) Beyond the current school year in a DDESS arrangement notwithstanding a change in the status of the sponsor which would otherwise terminate eligibility for good cause. Requests for continuation of enrollment, beyond the end of the school year, for good cause, must be in writing and submitted to the Director, DDESS. A good cause authorization for continued enrollment will cover only one school year at a time.

(h) Procedures for reimbursement of educational services:

(1) All non-DoD federal agencies whose employees enroll a dependent in an arrangement pursuant to 10 U.S.C. 2164 will reimburse the DoD for the cost of educational services provided on a school year basis.

(2) The non-DoD federal agency will certify school-aged dependents for their employees no later than May 1st each year for the following school year.

(3) DoDEA resource management (RM) will publish the ensuing school year's educational services tuition rates on or before May 31st each year.

(4) Each June, upon receipt of an official list of eligible employees and their school-aged dependents from the DDESS arrangement, DDESS RM will send each agency a tuition reimbursement notification letter for the entire upcoming school year. Tuition reimbursement payments from the agencies will be due by August of that school year for the first grading period and due by October for the remaining grading periods. These educational services are considered severable and subject to the provisions of 31 U.S.C. 1535, also known and referred to in this part as the “Economy Act”.

(5) At the beginning of each fiscal year, DoDEA RM allocates a portion of the agency's annual tuition reimbursement authority to DDESS, which grants explicit permission to collect and retain tuition reimbursements that directly offset agency operating expenses for providing educational services.

(6) Federally funded agencies are required to establish an interagency agreement with DDESS. This agreement serves as the authority for the Defense Finance and Accounting Service (DFAS) to centrally bill or transfer funds between the ordering agency and the provider of educational services based on DDESS tuition collection billings and refunds. DFAS will process reimbursable payment transactions via the Intra-Governmental Payment and Collection system.

(i) Procedures for payment of tuition for educational services provided by DoDEA Virtual School

(1) All members of the Military Services on active duty seeking to enroll dependents in the DoDEA Virtual School pursuant to paragraph (e)(2) of this section will pay tuition to the Department of Defense for the cost of the educational services provided.

(2) Tuition is based on the average market rate for virtual courses offered to the public in the U.S.

(3) DoDEA RM will publish the ensuing school year's educational services tuition rates on or before May 31st of each year.

(4) Tuition must be paid prior to enrollment.

(5) Tuition payments are reimbursable up to three weeks after enrollment in the DoDEA Virtual School on a pro-rated basis.

Dated: May 4, 2016.
Aaron Siegel,
Alternate OSD Federal Register Liaison Officer, Department of Defense.

[FR Doc. 2016-10821 Filed 5-6-16; 8:45 am]

BILLING CODE 5001-06-P